DEPARTMENT OF TRANSPORTATION

Research and Special Programs Administration

International Standards on the Transport of Dangerous Goods; Public Meetings

AGENCY: Research and Special Programs Administration (RSPA), Department of Transportation.

ACTION: Notice of public meetings.

SUMMARY: This notice is to advise interested persons that RSPA will conduct public meetings in preparation for and to report the results of the 26th session of the United Nation's Sub-Committee of Experts on the Transport of Dangerous Goods (UNSCOE) to be held November 29-December 7, 2004, in Geneva, Switzerland.

DATES: November 23, 2004, 9:30 a.m.-12:30 p.m., Room 6200. December 15, 2004, 9:30 a.m.-12:30 p.m., Room 6200.

ADDRESSES: Both meetings will be held at DOT Headquarters, Nassif Building, 400 Seventh Street SW., Washington, DC 20590.

FOR FURTHER INFORMATION CONTACT: Mr. Bob Richard, International Standards Coordinator, or Mr. Duane Pfund, Assistant International Standards Coordinator, Office of Hazardous Materials Safety, Department of Transportation, Washington, DC 20590; (202) 366-0656.

SUPPLEMENTARY INFORMATION: The primary purpose of the first meeting will be to prepare for the 26th session of the UNSCOE and to discuss draft U.S. positions on UNSCOE proposals. The primary purpose of the second meeting will be to provide a briefing on the outcome of the UNSCOE session and to prepare for the 27th session of the UNSCOE. The 26th session of the UNSCOE is the final meeting in the current biennium cycle and will finalize amendments considered for the 14th Revised Edition of the United Nations Recommendations on the Transport of Dangerous Goods Model Regulations. Topics to be covered during the public meeting include:

(1) Harmonization of the Recommendations on the Transport of Dangerous Goods with the Globally Harmonized System of Classification and Labeling of Chemicals, (2) Hazards to the aquatic environment, (3) Transport of Dangerous Goods in limited quantities and consumer commodities, (4) Infectious Substances, (5) Vibration design type testing, (6) Entries for fuel cell devices and cartridges, (7) Procedures for incident reporting, (8) Harmonization with the IAEA Regulations for the safe transport of radioactive materials, (9) Miscellaneous proposals related to listing and classification and the use of packagings and tanks. The public is invited to attend without prior notification. Due to heightened security measures participants are encouraged to arrive early to allow time for security checks necessary to obtain access to the building.

Documents

Copies of documents for the UNSCOE meeting and the meeting agenda may be obtained by downloading them from the United Nations Transport Division's Web site at: http://www.unece.org/trans/main/dgbd/dgsubc/c32004.html. This site may also be accessed through RSPA's Hazardous Materials Safety home page at http://hazmat.dot.gov/instandards.htm. RSPA's site provides additional information regarding the UNSCOE and related matters such as a summary of decisions taken at previous sessions of the UNSCOE.

Issued in Washington, DC, on October 20, 2004.
Frits Wybenga,
Deputy Associate Administrator for Hazardous Materials Safety.

[FR Doc. 04-23881 Filed 10-25-04; 8:45 am]

BILLING CODE 4910-60-M